SMALL BUSINESS ADMINISTRATION

Surrender of License of Small Business Investment Company

Pursuant to the authority granted to the United States Small Business Administration under the Small Business Investment Act of 1958, as amended, Section 309 and the Small Business Administration Rules and Regulations, Section 107.1900 (13 CFR 107.1900) to function as a small business investment company under the Small Business Investment Company License No. 03/03-0242 issued to NewSpring Mezzanine Capital, L.P., said license is hereby declared null and void.

United States Small Business Administration.
Thomas Morris,
Acting Associate Administrator, Office of Investment and Innovation.

[FR Doc. 2020-28938 Filed 12-30-20; 8:45 am]

BILLING CODE P